DEPARTMENT OF TRANSPORTATION

Federal Transit Administration

Fiscal Year 2023 Competitive Funding Opportunity: Areas of Persistent Poverty Program

AGENCY: Federal Transit Administration (FTA), Department of Transportation (DOT).

ACTION: Notice of Funding Opportunity (NOFO).

SUMMARY: The Federal Transit Administration (FTA) announces the opportunity to apply for a total of $20,041,870 in available funding ($20,000,000 in funding for Fiscal Year (FY) 2022 and $41,870 for FY 2021) for the Areas of Persistent Poverty Program (AoPP Program) (Federal Assistance Listing: 20.505). Funds will be awarded competitively for planning, engineering, or the development of technical or financing plans for projects to assist Areas of Persistent Poverty or Historically Disadvantaged Communities. FTA may award additional funding that is made available to the program prior to the announcement or project selections.

DATES: Complete proposals must be submitted electronically through the Grants.gov “APPLY” function by 11:59 p.m. Eastern Time on March 10, 2023.

FOR FURTHER INFORMATION CONTACT: Colby McFarland, FTA Office of Planning and Environment, 202-366-1648, or colby.mcfarland@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Other Information

A. Program Description

The AoPP Program provides funds to entities that are eligible recipients or subrecipients under 49 U.S.C. 5307, 5310, or 5311 to assist Areas of Persistent Poverty or Historically Disadvantaged Communities. Funding to implement the AoPP Program was appropriated by the Consolidated Appropriations Act, 2021 (Pub. L. 116-260), and the Consolidated Appropriations Act, 2022 (Pub. L. 117-103). This NOFO makes available $20,041,870 (of which $20,000,000 is funding from Fiscal Year (FY) 2022 and $41,870 is from FY 2021) that will be awarded through a competitive process, as described in this notice.

FTA will award grants to eligible applicants for planning, engineering, or development of technical or financing plans for projects eligible under chapter 53 of title 49, United States Code to assist Areas of Persistent Poverty or Historically Disadvantaged Communities. Applicants are encouraged to work with non-profits or other entities of their choosing to develop an eligible project. An eligible project for this NOFO is defined as a planning study (including a planning and environmental linkages study that advances the environmental analysis and review process as part of the metropolitan planning process), an engineering study, a technical study, or a financing plan.

This program supports FTA's strategic goals and objectives through the timely and efficient investment in public transportation for safety, economic strength and global competitiveness, equity, climate and sustainability, transformation, and organizational excellence. The AoPP Program grants are competitively awarded to local entities to assist Areas of Persistent Poverty as defined under section 6702(a)(1) of title 49, United States Code, or Historically Disadvantaged Communities. (See Section C of this NOFO for more information about eligibility.) This program also supports the President's initiatives to mobilize American ingenuity to build modern infrastructure and an equitable, clean energy future. By supporting increased transit access for environmental justice (EJ) populations, equity-focused community outreach and public engagement of underserved communities and adoption of equity-focused policies, reducing greenhouse gas emissions, and addressing the effects of climate change, FTA's AoPP Program advances the goals of Executive Order 13985: Advancing Racial Equity and Support for Underserved Communities Through the Federal Government; Executive Order 13990: Protecting Public Health and the Environment and Restoring Science to Tackle the Climate Crisis; and Executive Order 14008: Tackling the Climate Crisis at Home and Abroad. FTA seeks to use the AoPP Program to encourage racial equity in two areas: (1) planning and policies related to racial equity and barriers to opportunity; and (2) engineering, or development of technical or financing plans, for project investments that either proactively address racial equity and barriers to opportunity, including automobile dependence as a form of barrier, or redress prior inequities and barriers to opportunity. This objective also supports the Department's strategic goal related to infrastructure, with the potential for significantly enhancing environmental stewardship and community partnerships and reflects the goals of Executive Order 13985.

B. Federal Award Information

FTA intends to award all available funding in the form of grants to selected applicants responding to this NOFO. Additional funds made available for this program prior to project selection may be allocated to eligible projects. Funds will remain available for obligation for up to four fiscal years, not including the year in which the funds are allocated to projects.

Only proposals from eligible recipients for eligible activities will be considered for funding. FTA may establish a cap on the maximum grant award for selected projects. In response to a NOFO for the AoPP Program that closed on August 30, 2021, FTA received applications for 104 eligible projects requesting a total of $62,738,935. Of the 104 projects, 40 projects were selected and funded for a total of $16,217,744.

C. Eligibility Information

1. Eligible Applicants

Eligible applicants include entities that are eligible recipients or subrecipients under 49 U.S.C. 5307, 5310, or 5311 located in Areas of Persistent Poverty or Historically Disadvantaged Communities. Entities that are subrecipients or indirect recipients under these programs must apply through their ordinary pass-through entities or designated recipients. State departments of transportation may apply on behalf of eligible applicants within their States.

For Fiscal Year 2022 funds, “Area of Persistent Poverty” is defined by 49 U.S.C. 6702(a)(1) as, (1) any county (or equivalent jurisdiction) in which, during the 30-year period ending on November 15, 2021, 20 percent or more of the population continually lived in poverty, as measured by the 1990 decennial census, the 2000 decennial census, and the most recent annual small area income and poverty estimate of the Bureau of the Census; (2) any census tract with a poverty rate of not less than 20 percent, as measured by the 5-year data series available from the American Community Survey of the Bureau of the Census for the period of 2014 through 2018; and (3) any territory or possession of the United States.

For the purpose of the Fiscal Year 2022 NOFO, and consistent with the U.S. Office of Management and Budget's Interim Guidance for the Justice 40 Initiative, “Historically Disadvantaged Communities” include (a) certain qualifying census tracts, (b) any Tribal land, or (c) any territory or possession of the United States. As an additional resource, FTA provides a mapping tool to assist applicants in identifying whether a project is located in an Area of Persistent Poverty or an Historically Disadvantaged Community: https://usdot.maps.arcgis.com/apps/dashboards/75febe4d9e6345ddb2c3ab42a4aae85f.

An application may qualify under this NOFO if the recipient is located either in an Area of Persistent Poverty or an Historically Disadvantaged Community and the project assists an Area of Persistent Poverty or an Historically Disadvantaged Community. Applicants should determine whether their proposed project is in an Area of Persistent Poverty or Historically Disadvantaged Community and document this information in the supplemental form to the application and attach an accompanying map of the project area and the census tracts. This notice makes available $41,870 that was appropriated by the Consolidated Appropriations Act, 2021. The applicant and project eligibility requirements for these 2021 funds are the same as for the 2022 funds, except that, instead of applicants and projects being located in Areas of Persistent Poverty or Historically Disadvantaged Communities as defined above, applicants and projects must be located in (1) in a county that has consistently had greater than or equal to 20 percent of the population living in poverty over the 30-year period preceding the date of enactment of the Consolidated Appropriations Act, 2021 as measured by the 1990 and 2000 decennial census and the most recent Small Area Income and Poverty Estimates; or (2) in a census tract with a poverty rate of at least 20 percent as measured by the 2014-2018 5-year data series available from the American Community Survey of the Bureau of the Census; or (3) in any territory or possession of the United States. FTA anticipates that a number of applicants will be eligible under both the 2021 criteria and the 2022 criteria. FTA will use its discretion to offer these 2021 funds to a successful applicant that qualifies under both.

Eligible applicants must be able to demonstrate the requisite legal, financial, and technical capabilities to receive and administer Federal funds under this program.

As described in the Consolidated Appropriations Act, 2022, applicants are encouraged to work with non-profits or other entities of their choosing to develop planning, technical, engineering, or financing plans, and applicants are encouraged to partner with non-profits that can assist with making projects low or no emissions. If an application that involves such a partnership is selected for funding, the applicant's process for selecting the non-profit or other non-governmental partners must satisfy the requirements for a competitive procurement under 49 U.S.C. 5325(a). An applicant may undertake a competitive selection process that satisfies the requirements of 49 U.S.C. 5325(a) prior to applying for an AoPP award and name the selected entities in the application. In that event, applicants are advised that any changes to the proposed partnership will require written FTA approval, changes must be consistent with the scope of the approved project and may necessitate a competitive procurement.

2. Cost Sharing or Matching

The minimum Federal share for projects selected under the AoPP Program is 90 percent of the net total project cost. The non-Federal share will be no more than 10 percent of the net total project cost (not 10 percent of the requested grant amount). Cost sharing is not required, and an application may request up to 100 percent Federal funding. However additional consideration will be given to those projects for which local funds have already been made available or reserved.

Eligible sources of non-Federal match include the following: cash from non-government sources other than revenues from providing public transportation services; revenues derived from the sale of advertising and concessions; amounts received under a service agreement with a State or local social service agency or private social service organization; revenues generated from value capture financing mechanisms; or funds from an undistributed cash surplus; replacement or depreciation cash fund or reserve; or new capital. In addition, transportation development credits or documentation of in-kind match may be used as local match if identified and documented in the application.

3. Eligible Projects

Under the AoPP Program, eligible projects are planning, engineering, or development of technical or financing plans for projects eligible under Chapter 53 of title 49, United States Code that will assist Areas of Persistent Poverty or Historically Disadvantaged Communities. For example, these activities may include planning, engineering, or development of technical or financing plans for improved transit services; new transit routes; engineering for transit facilities and improvements to existing facilities; innovative technologies; planning for low or no emission buses; planning for a new bus facility or intermodal center that supports transit services; integrated fare collections systems; or coordinated public transit human service transportation plans to improve transit service in an Area of Persistent Poverty or Historically Disadvantaged Community, or to provide new service such as transportation for services to address the opioid epidemic, as well as increase access to environmental justice populations, while reducing greenhouse gas emissions and the effects of climate change. An eligible project also may be a planning and environmental linkages study that advances the environmental analysis and review process as part of the metropolitan planning process. Ineligible projects are capital, maintenance, or operating costs of any kind are not eligible for funding under the AoPP Program. Procurement of vehicles or equipment and support of operations and maintenance of systems are also ineligible activities.

D. Application and Submission Information

1. Address To Request Application Package

Applications must be submitted electronically through Grants.gov. General information for accessing and submitting applications through Grants.gov can be found at https://www.transit.dot.gov/funding/grants/applying/applying-fta-funding along with specific instructions for the forms and attachments required for submission. Mail or fax submissions of completed proposals will not be accepted.

2. Content and Form of Application Submission

a. Proposal Submission

A complete proposal submission for each program consists of two forms: (1) the SF-424 Application for Federal Assistance; and (2) the supplemental form for the FY 2022 AoPP Program. They can be downloaded from Grants.gov or the FTA website at https://www.transit.dot.gov/grant-programs/areas-persistent-poverty-program. Failure to submit the information as requested can delay review or disqualify the application. The supplemental form and any supporting documents must be attached to the “Attachments” section of the SF-424. The application must include responses to all sections of the SF-424 Application for Federal Assistance and the supplemental form, unless indicated as optional. The information on the supplemental form will be used to determine applicant and project eligibility for the program, and to evaluate the proposal against the selection criteria described in Section E of this NOFO.

Submissions must include the following attachments:

i. A completed SF-424 Application for Federal Assistance form and supplemental form for the AoPP Program;

ii. A map of the proposed study area with which to confirm alignment between the proposed study area and an Area of Persistent Poverty or Historically Disadvantaged Community;

iii. Documentation of any partnerships between the applicant and other organizations to carry out the proposed activities. Documentation may consist of a memorandum of agreement or letter of intent signed by all parties that describes the parties' roles and responsibilities in the proposed project; and

iv. Documentation of any funding commitments for the proposed work.

FTA will accept only one supplemental form per SF-424 submission. FTA encourages States and other applicants to consider submitting a single supplemental form that includes multiple activities to be evaluated as a consolidated proposal. If a State or other applicant chooses to submit separate proposals for individual consideration by FTA, each proposal must be submitted using a separate SF-424 and supplemental form.

Applicants may attach additional supporting information to the SF-424 submission, including but not limited to letters of support, project budgets, fleet status reports, or excerpts from relevant planning documents. Supporting documentation must be described and referenced by file name in the appropriate response section of the supplemental form, or it may not be reviewed.

Information such as the applicant's name, Federal amount requested, non-Federal match amount, and description of the study area are requested in varying degrees of detail on both the SF-424 form and supplemental form. Applicants must fill in all fields unless stated otherwise on the forms. Applicants should use both the “Check Package for Errors” and the “Validate Form” buttons on both forms to check all required fields and to ensure that the Federal and local amounts specified are consistent. In the event of errors with the supplemental form, FTA recommends saving the form on your computer and ensuring that JavaScript is enabled in your PDF editor. The information listed below must be included on the SF-424 and supplemental form for the AoPP Program funding applications.

b. Application Content

The SF-424 and the supplemental form will prompt applicants for the following items:

1. Provide the name of the lead applicant and, if applicable, the specific co-sponsors submitting the application.

2. Provide the applicant's Unique Entity ID number (provided by SAM).

3. Provide contact information including: Contact name, title, address, phone number, and email address.

4. Specify the Congressional districts where the planning project will take place.

5. Identify the project title and project scope to be funded, including anticipated substantial deliverables and the milestones for when they will be provided to FTA.

6. Identify and describe the eligible project that meets the requirements of Section C, of this notice, including a detailed description of the need for planning, engineering, or development of technical, or financial planning activities.

7. Address each evaluation criterion separately, demonstrating how the project responds to each criterion as described in Section E and how the project will support the AoPP Program objectives.

8. Provide a line-item budget for the project, with enough detail to indicate the various key components of the project.

9. Identify the Federal amount requested.

10. Document the matching funds, including the amount and source of the match (may include local or private sector financial participation in the project). Describe whether the matching funds are committed or planned and include documentation of the commitments.

11. Provide an explanation of the scalability of the project.

12. Address whether other Federal funds have been sought or received for the comprehensive planning project.

13. Provide a project schedule including major task, deliverables, and completion. In addition, provide the local steps required for including the project in the relevant state, metropolitan, or local planning documents and a brief explanation on how the proposed project aligns with such plans (e.g., Unified Planning Work Program).

14. Propose performance criteria for the development and implementation of the proposed activities funded under the AoPP Program.

15. Identify potential State, local, or other impediments to the deliverables of the AoPP Program-funded work and their implementation, and how the impediments will be addressed.

16. Describe how the proposed activities address climate change. Applicants should identify any air quality nonattainment or maintenance areas under the Clean Air Act in the planning or study area. Nonattainment or maintenance areas should be limited to the following applicable National Ambient Air Quality Standards criteria pollutants: carbon monoxide, ozone, and particulate matter 2.5 and 10. The U.S. Environmental Protection Agency's Green Book (available at https://www.epa.gov/green-book) is a publicly-available resource for nonattainment and maintenance area data. This consideration will further the goals of Executive Order 13990: Protecting Public Health and the Environment and Restoring Science to Tackle the Climate Crisis, and Executive Order 14008: Tackling the Climate Crisis at Home and Abroad.

17. Describe how the proposed activities address environmental justice populations, racial equity, and barriers to opportunity.

3. Unique Entity Identifier and System for Award Management (SAM)

Each applicant is required to: (1) be registered in SAM before submitting an application; (2) provide a valid unique entity identifier in its application; and (3) continue to maintain an active SAM registration with current information at all times during which the applicant has an active Federal award or an application or plan under consideration by FTA. These requirements do not apply if the applicant has an exemption approved by FTA pursuant to 2 CFR 25.110(c) or is otherwise excepted from registration requirements. FTA may not make an award until the applicant has complied with all applicable unique entity identifiers and SAM requirements. If an applicant has not fully complied with the requirements by the time FTA is ready to make an award, FTA may determine that the applicant is not qualified to receive an award and use that determination as a basis for making a federal award to another applicant.

All applicants must provide a unique entity identifier provided by SAM. Registration in SAM may take approximately 3-5 business days, but FTA recommends allowing ample time, up to several weeks, for completion of all steps. For additional information on obtaining a unique entity identifier, please visit www.sam.gov.

4. Submission Dates and Times

Project proposals must be submitted electronically through Grants.gov by 11:59 p.m. eastern time on March 10, 2023. Grants.gov attaches a time stamp to each application at the time of submission. Proposals submitted after the deadline will be considered only under extraordinary circumstances not under the applicant's control. Mail and fax submissions will not be accepted.

Within 48 hours after submitting an electronic application, the applicant should receive two email messages from Grants.gov: (1) confirmation of successful transmission to Grants.gov; and (2) confirmation of successful validation by Grants.gov. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated, and check the box on the supplemental form indicating this is a resubmission. An application that is submitted at the deadline and cannot be validated will be marked as incomplete, and such applicants will not receive additional time to re-submit.

FTA urges applicants to submit their applications at least 96 hours prior to the due date to allow time to receive the validation messages and to correct any problems that may have caused a rejection notification. Grants.gov scheduled maintenance and outage times are announced on the Grants.gov website. Deadlines will not be extended due to scheduled maintenance or outages.

Applicants are encouraged to begin the registration process on the Grants.gov site well in advance of the submission deadline. Registration in Grants.gov is a multi-step process, which may take several weeks to complete before an application can be submitted. Applicants who are already registered in Grants.gov may be required to take steps to keep their registrations up to date before submissions can be made successfully: (1) registration in SAM is renewed annually, and (2) persons making submissions on behalf of the Authorized Organization Representative (AOR) must be authorized in Grants.gov by the AOR to make submissions.

5. Funding Restrictions

Funds under this NOFO cannot be used to reimburse applicants for otherwise eligible expenses incurred prior to FTA award of a grant agreement until FTA has issued pre-award authority for selected projects. FTA will issue pre-award authority to incur costs for selected projects beginning on the date that project selections are announced. FTA does not provide pre-award authority for competitive funds until projects are selected, and even then, there are Federal requirements that must be met before costs are incurred. FTA will issue specific guidance to awardees regarding pre-award authority at the time of selection. For more information about FTA's policy on pre-award authority, please see the most recent Apportionment Notice on FTA's website. Allowable direct and indirect expenses must be consistent with the Governmentwide Uniform Administrative Requirements and Cost Principles (2 CFR part 200) and FTA Circular 5010.1E.

6. Other Submission Requirements

Applicants are strongly encouraged to identify scaled funding options in case insufficient funding is available to fund a project at the full requested amount. If an applicant indicates that a project is scalable, the applicant should provide the minimum total project cost and Federal amount that will fund an eligible project that achieves the objectives of the program and meets all relevant program requirements. The applicant must provide a clear explanation of how the project would be affected by a reduced award. FTA may award a lesser amount regardless of whether a scalable option is provided.

E. Application Review Information

1. Criteria

Project proposals will be evaluated primarily on the responses provided in the supplemental form. Additional information may be provided to support the responses; however, any additional documentation must be directly referenced on the supplemental form, including the file name where the additional information can be found. Applications will be evaluated based on the quality and extent to which the following evaluation criteria are addressed.

a. Demonstration of Need

Applications will be evaluated based on the quality and extent to which they demonstrate how the proposed activities will support planning, engineering, or development of technical or financing plans that would result in a project eligible for funding under chapter 53 of title 49, United States Code. Applications should clearly present the need for the proposed project and provide substantiated background information such as the level of poverty in the area, the population size, the extent of unmet access and mobility connections to critical employment, education, or medical destinations as the result of inadequate transit service or lack of coordination among service providers. Applications should also consider how activities will affect climate change and address environmental justice challenges.

b. Demonstration of Benefits

Applications will be evaluated based on how well they describe how the proposed planning, engineering, or development of technical or financing plans and address one or more of the following: the existing condition of the transit system, improved reliability of transit service for its riders, enhanced access and mobility within the service area, accelerating innovation in Areas of Persistent Poverty or Historically Disadvantaged Communities to serve unmet needs, reducing barriers to affordable housing or any other qualitative benefits that would improve the transit efficiency and impact the quality of life for the community. The following factors will be considered:

i. System Condition. FTA will evaluate the potential for the planning, engineering, or development of technical or financing plans to lead to an improvement in the condition of the transit system in Areas of Persistent Poverty or Historically Disadvantaged Communities.

ii. Service Reliability. FTA will evaluate the potential for the planning, engineering, or development of technical or financing plans to lead to a reduction in the frequency of breakdowns or other service interruptions caused by the age and condition of the agency's transit vehicle fleet and improve system reliability.

iii. Enhanced Access and Mobility. FTA will evaluate the potential for the planning, engineering, or development of technical or financing plans that lead to improved access to jobs, education, and health care services and mobility for the transit riding public, such as through increased reliability, improved headways, creation of new transportation choices, or eliminating gaps in the current route network or any other qualitative benefits that would improve the transit efficiency and impact the quality of life for the community.

iv. Accelerating Innovation. FTA will evaluate the potential for the planning, engineering, or development of technical or financing plans to accelerate the introduction of innovative technologies or practices such as integrated fare payment systems permitting complete trips or advancements to propulsion systems. Innovation can also include practices such as new public transportation operational models, financial or procurement arrangements, or value capture strategies. FTA views value capture strategies as public financing tools that recover a share of the value transit creates. Examples of value capture strategies used for transit can include the following: tax increment financing, special assessments, and joint development. AoPP funds can be used for plans that include value capture approaches.

v. Barriers to Low Income Housing. FTA will evaluate the degree to which the planning study, engineering study, or development of technical or financial plans identify proposed actions that reduce regulatory barriers that unnecessarily raise the costs of housing development or impede the development of affordable housing.

vi. Regional Support. Applicants should provide evidence of regional or local support for the proposed project. Documentation may include support letters from local and regional planning organizations, local governmental officials, public agencies, or non-profit or for-profit private sector supporters attesting to the need for the project.

c. Funding Commitments

Applicants must identify the source of any non-Federal cost-share or in-kind contribution and describe whether such contributions are currently available for the project or will need to be secured if the project is selected for funding. FTA will consider the availability of the non-Federal cost-share as evidence of local financial commitment to the project. Additional consideration will be given to those projects for which local funds have already been made available or reserved. Applicants should submit evidence of the availability of funds for the project (e.g., by including a board resolution, letter of support from the State, a budget document highlighting the line item or section committing funds to the proposed project, or other documentation of the source of non-Federal funds).

d. Project Implementation Strategy

FTA will evaluate the strength of the work plan, schedule, and process included in an application based on the following factors:

i. Extent to which the schedule contains sufficient detail, identifies all steps needed to implement the work proposed, and is achievable;

ii. Extent of partnerships, including with non-public sector entities, equity-focused community outreach and meaningful public engagement of underserved communities, see: https://www.transportation.gov/public-involvement; and

iii. The partnerships' technical capability to develop, adopt, and implement the plans, based on FTA's assessment of the applicant's description of the policy formation, implementation, and financial roles of the partners, and the roles and responsibilities of proposed staff.

e. Technical, Legal, and Financial Capacity

Applicants must demonstrate they have the technical, legal, and financial capacity to undertake the project. FTA will review relevant oversight assessments and records to determine whether there are any outstanding legal, technical, or financial issues with the applicant that would affect the outcome of the proposed project. Applicants with unresolved legal, technical, or financial compliance issues from an FTA compliance review or Federal grant-related Single Audit finding must explain how corrective actions taken will mitigate negative impacts on the proposed project.

2. Review and Selection Process

A technical evaluation committee will verify each proposal's eligibility and evaluate proposals based on the published evaluation criteria. FTA staff may request additional information from applicants, if necessary. Taking into consideration the findings of the technical evaluation committee, the FTA Administrator will determine the final selection of projects for program funding. In determining the allocation of program funds, FTA may consider geographic diversity and the applicant's receipt of other competitive awards. FTA may also consider capping the amount a single applicant may receive.

a. Climate Change and Sustainability

In further support of Executive Order 14008, FTA will give priority consideration to applications that create significant community benefits relating to the environment, including those projects that address greenhouse gas emissions and climate change impacts. FTA encourages applicants to demonstrate whether they have considered climate change and environmental justice in terms of the transportation planning process or anticipated design components with outcomes that address climate change (e.g., resilience or adaptation measures). The application should describe what specific climate change or environmental justice activities have been incorporated, including whether a project supports a Climate Action Plan, an equitable development plan has been prepared, and a tool such as EPA's EJSCREEN at: https://www.epa.gov/ejscreen have been applied in project planning. Applicants could also address how a project is related to housing or land use reforms to increase density to reduce climate impacts. The application should also describe specific and direct ways the project will mitigate or reduce climate change impacts including any components that reduce emissions, promote energy efficiency, incorporate electrification or low emission or zero emission vehicle infrastructure, increase resiliency, recycle or redevelop existing infrastructure or if located in a floodplain be constructed or upgraded consistent with the Federal Flood Risk Management Standard, to the extent consistent with current law.

b. Racial Equity and Barriers to Opportunity

FTA will also give priority consideration to applications that advance racial equity in two areas: (1) planning and policies related to racial equity and overcoming barriers to opportunity; and (2) project investments that either proactively address racial equity and barriers to opportunity, including automobile dependence as a form of barrier, or redress prior inequities and barriers to opportunity. Applicants could also address how a project is related to housing or land use reforms to address historic barriers to opportunity. This objective has the potential to enhance environmental stewardship and community partnerships, and reflects Executive Order 13985, Advancing Racial Equity and Support for Underserved Communities Through the Federal Government. FTA encourages the applicant to include sufficient information to evaluate how the applicant will proactively address and advance racial equity and address barriers to opportunity. The applicant should describe any transportation plans or policies related to equity and barriers to opportunity they are implementing or have implemented in relation to the proposed project, along with the specific project investment details necessary for FTA to evaluate if the investments are being made either proactively to advance racial equity and address barriers to opportunity or redress prior inequities and barriers to opportunity. All project investment costs for projects that are related to racial equity and barriers to opportunity should be summarized. FTA also encourages applicants to consider how the project will address the challenges faced by individuals and underserved communities in rural areas.

c. Justice40 Initiative and Environmental Justice

In support of Executive Order 14008, and consistent with OMB's Interim Guidance for the Justice40 Initiative, Historically Disadvantaged Communities include (a) certain qualifying census tracts, (b) any Tribal land, or (c) any territory or possession of the United States. FTA is providing a mapping tool to assist applicants in identifying whether a project is located in an Area of Persistent Poverty or an Historically Disadvantaged Community at https://usdot.maps.arcgis.com/apps/dashboards/75febe4d9e6345ddb2c3ab42a4aae85f. Use of this mapping tool is optional; however, FTA encourages applicants to provide an image or screen shot of the map tool outputs, or alternatively, consistent with OMB's Interim Guidance, applicants can supply quantitative, demographic data of their ridership demonstrating the percentage of their ridership that meets the criteria described in Executive Order 14008 for disadvantaged communities as well as describe the environmental justice population located within the service area. Examples of Historically Disadvantaged Communities that an applicant could address using geographic or demographic information include low income, high or persistent poverty, high unemployment and underemployment, racial and ethnic residential segregation, linguistic isolation, or high housing cost burden and substandard housing. Additionally, in support of the Justice40 Initiative, the applicant should also provide evidence of strategies that the applicant has used in the planning process to seek out and consider the needs of those traditionally disadvantaged and underserved by existing transportation systems. For technical assistance using the mapping tool, please contact GMO@dot.gov.

3. Integrity and Performance Review

Prior to making an award with a total amount of Federal share greater than the simplified acquisition threshold (currently $250,000), FTA is required to review and consider any information about the applicant that is in the Federal Awardee Performance and Integrity Information Systems (FAPIIS) accessible through SAM. An applicant may review and comment on information about itself that a Federal awarding agency previously entered. FTA will consider any comments by the applicant, in addition to the other information in the designated integrity and performance system, in making a judgment about the applicant's integrity, business ethics, and record of performance under Federal awards when completing the review of risk posed by applicants as described in 2 CFR 200.206.

F. Federal Award Administration Information

1. Federal Award Notices

FTA will announce the final project selections on the FTA website. Selectees should contact their FTA regional offices for additional information regarding allocations for projects under the AoPP Program.

2. Administrative and National Policy Requirements

a. Planning

FTA encourages applicants to engage the appropriate State departments of transportation, Regional Transportation Planning Organization or Metropolitan Planning Organization(s) (MPOs) in areas likely to be served by the funds made available under this program. Selected projects must be incorporated into the long-range plans or unified planning work programs upon award and prior to being eligible for pre-award authority. Applicants can find contact information for the applicable MPO here (https://www.planning.dot.gov/MPO/).

b. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

i. Civil Rights Requirements

Applications should demonstrate that the recipient has a plan for compliance with civil rights obligations and nondiscrimination laws, including Title VI of the Civil Rights Act of 1964, the Americans with Disabilities Act (ADA), and Section 504 of the Rehabilitation Act, and accompanying regulations. This should include a current Title VI program plan and a completed Community Participation Plan (alternatively called a Public Participation Plan and often part of the overall Title VI program plan), if applicable. Applicants who have not sufficiently demonstrated the conditions of compliance with civil rights requirements will be required to do so before receiving funds. Recipients of Federal transportation funding will be required to comply fully with the DOT's regulations and guidance for the ADA and all relevant civil rights requirements. The Department's and FTA's Office of Civil Rights will work with awarded grant recipients to ensure full compliance with Federal civil rights requirements.

c. Disadvantaged Business Enterprise

FTA requires that its recipients receiving planning, capital, or operating assistance that will award prime contracts exceeding $250,000 in FTA funds in a Federal fiscal year comply with Department of Transportation Disadvantaged Business Enterprise (DBE) program regulations (49 CFR part 26). Applicants should expect to include any funds awarded, excluding those to be used for vehicle procurements, in setting their overall DBE goal.

d. Pre-Award Authority

FTA will issue specific guidance to recipients regarding pre-award authority at the time of selection. FTA does not provide pre-award authority for competitive funds until projects are selected and even then, there are Federal requirements that must be met before costs are incurred. Funds under this NOFO cannot be used to reimburse applicants for otherwise eligible expenses incurred prior to FTA award of a grant agreement until FTA has issued pre-award authority for selected projects, or unless FTA has issued a “Letter of No Prejudice” for the project before the expenses are incurred. For more information about FTA's policy on pre-award authority, please see the most recent Apportionment Notice at: https://www.transit.dot.gov/funding/apportionments/current-apportionments.

e. Grant Requirements

If selected, awardees will apply for a grant through FTA's Transit Award Management System (TrAMS). Recipients of AoPP Program funds are subject to the grant requirements of the Metropolitan Transportation Planning program (49 U.S.C. 5303) or Statewide and Non-Metropolitan Transportation Planning (49 U.S.C. 5304), including those of FTA Circular 8100.1D and Circular 5010.1E. All competitive grants, regardless of the award amount, will be subject to the Congressional Notification and release process. Technical assistance regarding these requirements is available from each FTA regional office.

When applying for an award under this Program, eligible applicants and sub-recipients who are not direct recipients, or who have limited experience or access to FTA's Transit Award Management System (TrAMS), must secure the commitment of an active FTA direct recipient to apply for funding on their behalf through TrAMS if they are selected for an AoPP funding award. Documentation of such a commitment must be included in the application.

3. Reporting

Post-award reporting requirements include submission of Federal Financial Reports and Milestone Progress Reports in FTA's electronic grants management system on a quarterly basis. Applicants should include any goals, targets, and indicators referenced in their application to the project in the Executive Summary of the TrAMS application. Awardees must also submit copies of the substantial deliverables identified in the work plan to the FTA regional office at the corresponding milestones.

FTA is committed to making evidence-based decisions guided by the best available science and data. In accordance with the Foundations for Evidence-Based Policymaking Act of 2018 (Pub. L. 115-435), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual Certifications and Assurances required of FTA grant recipients, a successful applicant must report on the suspension or debarment status of itself and its principals. If the award recipient's active grants, cooperative agreements, and procurement contracts from all Federal awarding agencies exceed $10,000,000 for any period of time during the period of performance of an award made pursuant to this Notice, the recipient must comply with the Recipient Integrity and Performance Matters reporting requirements described in appendix XII to 2 CFR part 200.

G. Federal Awarding Agency Contacts

For program-specific questions, please contact Colby McFarland, Office of Planning and Environment, (202) 366-1648, email: Colby.McFarland@dot.gov. A TDD is available at 1-800-877-8339 (TDD/FIRS). Any addenda that FTA releases on the application process will be posted at https://www.transit.dot.gov/grant-programs/areas-persistent-poverty-program. To ensure applicants receive accurate information about eligibility or the program, the applicant is encouraged to contact FTA directly, rather than through intermediaries or third parties. FTA staff may also conduct briefings on the FY 2023 competitive grants selection and award process upon request. Contact information for FTA's regional offices can be found on FTA's website at https://www.transit.dot.gov/about/regional-offices/regional-offices.

H. Other Information

User friendly information and resources regarding DOT's discretionary grant programs relevant to rural applicants can be found on the Rural Opportunities to Use Transportation for Economic Success (ROUTES) website at https://transportation.gov/rural. This program is not subject to Executive Order 12372, “Intergovernmental Review of Federal Programs.” For assistance with Grants.gov please contact Grants.gov by phone at 1-800-518-4726 or by email at support@grants.gov.

Nuria I. Fernandez,
Administrator.

[FR Doc. 2023-00168 Filed 1-6-23; 8:45 am]

BILLING CODE 4910-57-P